FEDERAL COMMUNICATIONS COMMISSION

47 CFR Part 73

[DA 00-700; MM Docket No. 00-57; RM-9825]

Radio Broadcasting Services; Gadsden and Springville, AL

AGENCY: Federal Communications Commission.

ACTION: Proposed rule.

SUMMARY: This document requests comments on a petition for rule making filed on behalf of Capstar Royalty II Corporation, licensee of Station WQEN(FM), Channel 279C1, Gadsden, Alabama, requesting the substitution of Channel 279C for Channel 279C1, the reallotment of Channel 279C to Springville, Alabama, as that locality's first local aural transmission service, and modification of its license accordingly. Coordinates used for this proposal are 33-58-04 NL and 86-12-35 WL. (See Supplementary Information, infra.)

DATES: Comments must be filed on or before May 22, 2000, and reply comments on or before June 6, 2000.

ADDRESSES: Secretary, Federal Communications Commission, Washington, DC 20554. In addition to filing comments with the FCC, interested parties should serve the petitioner's counsel, as follows: Gregory L. Masters and E. Joseph Knoll, III, Wiley, Rein & Fielding, 1776 K Street, NW., Washington, DC 20006.

FOR FURTHER INFORMATION CONTACT: Nancy Joyner, Mass Media Bureau, (202) 418-2180.

SUPPLEMENTARY INFORMATION: This is a synopsis of the Commission's Notice of Proposed Rule Making, MM Docket No. 00-57, adopted March 22, 2000, and released March 31, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Station WQEN is currently licensed to operate on Channel 279C1 at Gadsden. However, 47 CFR Part 73, Radio Broadcast Services, § 73.202(b), the Table of FM Allotments, lists Channel 279C at Gadsden. Commission records reflect that Station WQEN filed a one-step application for a construction permit (File No. BPH-19971114IH) to change its channel of operation to Channel 279C1. A license to cover the construction permit (File No. BLH-19980710KE) was granted December 6, 1999.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

Federal Communications Commission.
John A. Karousos,
Chief, Allocations Branch, Policy and Rules Division, Mass Media Bureau.

[FR Doc. 00-9612 Filed 4-17-00; 8:45 am]

BILLING CODE 6712-01-P